NUCLEAR REGULATORY COMMISSION

[Docket No. 50-123]

Notice of License Renewal Application for Facility Operating License, University of Missouri—Rolla

Notice is hereby given that the U.S. Nuclear Regulatory Commission (the Commission) has received an application dated August 30, 2004, from the University of Missouri—Rolla (UMR), filed pursuant to Section 104c of the Atomic Energy Act of 1954, as amended (the Act), and 10 CFR 50.51(a), to renew Operating License No. R-79 for the University of Missouri—Rolla Reactor (UMRR). UMR requested renewal of the license to authorize operation of the facility for an additional 20-year period beyond the period specified in the current operating license. The current operating license for the UMRR (R-79) expires on January 14, 2005. In accordance with 10 CFR 2.109(a), the application for renewal was submitted at least 30 days prior to the expiration of the existing license, and therefore the existing license will not be deemed to have expired until the application has been finally determined. The reactor is located on the campus of the University of Missouri in the city of Rolla, Missouri. The UMRR is used for training of nuclear engineering students and other engineering and science students. It is also used for research by the UMR faculty, UMR graduate students, UMRR staff, and students and instructors from other colleges and universities in the Midwest. The acceptability of the tendered application for renewal and other matters including an opportunity to request a hearing, will be the subject of a subsequent Federal Register notice.

Copies of the application are available electronically at NRC's Electronic Reading Room at http://www.nrc.gov/reading-rm/adams.html under accession number ML042820116. From this site, you can access the NRC's Agencywide Documents Access and Management System (ADAMS), which provides text and image files of NRC's public documents. Please note that on October 25, 2004, the NRC terminated public access to ADAMS and initiated an additional security review of publicly available documents to ensure that potentially sensitive information is removed from the ADAMS database accessible through the NRC's Web site. Interested members of the public may obtain copies of the referenced documents for review and/or copying by contacting the Public Document Room pending resumption of public access to ADAMS. The NRC Public Document Room is located at NRC Headquarters in Rockville, MD, and can be contacted at (800) 397-4209, (301) 415-4737 or by e-mail to: pdr@nrc.gov.

Dated at Rockville, Maryland, this 18th day of November 2004.
For the Nuclear Regulatory Commission.
Patrick M. Madden,
Section Chief, Research and Test Reactors Section, New, Research and Test Reactors Program, Division of Regulatory Improvement Programs, Office of Nuclear Reactor Regulation.

[FR Doc. 04-26241 Filed 11-26-04; 8:45 am]

BILLING CODE 7590-01-P